DEPARTMENT OF ENERGY

Federal Energy Regulatory Commission

[Docket No. CP03-328-000]

Transcontinental Gas Pipe Line Corporation; Notice of Application

July 14, 2003.

Take notice that on June 26, 2003, Transcontinental Gas Pipe Line Corporation (Transco), filed in Docket No. CP03-328-000 an application, in abbreviated form, pursuant to section 7(b) of the Natural Gas Act, as amended, and the Rules and Regulations of the Federal Energy Regulatory Commission, for an order permitting and approving abandonment of a transportation and exchange service provided to The Brooklyn Union Gas Company (Brooklyn Union) and Dominion Transmission, Inc (DTI) under Transco's Rate Schedule X-99 and a transportation service provided to Brooklyn Union, as more fully set forth in the application which is on file with the Commission and open to public inspection.

In such application, Transco states that it entered into an interruptible transportation and exchange agreement with Brooklyn Union and DTI, on July 1, 1975, under which Transco transports gas on an interruptible basis for Brooklyn Union, now doing business as KeySpan Energy Delivery New York, on an interruptible basis and exchanges gas with DTI, successor to Consolidated Gas Supply Corporation, under Rate Schedule X-99. Transco further states that it entered into an interruptible transportation agreement with Brooklyn Union on February 14, 1983, under which Transco transports gas, on an interruptible basis, for Brooklyn Union under Rate Schedule X-248.

In the instant application, Transco states that it seeks authorization to abandon both the transportation and exchange agreement with Brooklyn Union and DTI and the transportation agreement with Brooklyn Union, effective on the date of the Commission's order authorizing the abandonments, pursuant to Brooklyn Union's and DTI's election to terminate their service agreements.

Transco states that the Primary Term of the service agreement under Rate Schedule X-99 ended on September 24, 1976. Transco further states that by letter dated January 9, 2001, Brooklyn Union and DTI provided Transco sufficient notice to terminate the subject agreement under Rate Schedule X-99 as of the date of the Commission's order authorizing the abandonment of service. Transco indicates that the Primary Term of the service agreement under Rate Schedule X-248 ended on January 21, 1983. Transco explains that, by letter dated April 28, 2003, Brooklyn Union provided Transco sufficient notice to terminate the subject service agreement under Rate Schedule X-248 as of the date of the Commission's order authorizing the abandonment of service.

Any person desiring to be heard or to protest said filing should file a motion to intervene or a protest with the Federal Energy Regulatory Commission, 888 First Street, NE., Washington, DC 20426, in accordance with Sections 385.314 or 385.211 of the Commission's Rules and Regulations. All such motions and protests must be filed on or before the comment date. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 4, 2003.

Magalie R. Salas,
Secretary.

[FR Doc. 03-18307 Filed 7-17-03; 8:45 am]

BILLING CODE 6717-01-P